DEPARTMENT OF THE INTERIOR

Fish and Wildlife Service

Draft Comprehensive Conservation Plan and Environmental Assessment for Assabet River, Great Meadows and Oxbow National Wildlife Refuges, Part of the Eastern Massachusetts National Wildlife Refuge Complex

AGENCY: Fish and Wildlife Service, Department of the Interior.

ACTION: Notice of availability.

SUMMARY: The U.S. Fish and Wildlife Service (Service) announces that the Draft Comprehensive Conservation Plan (CCP) and Environmental Assessment (EA) is available for Assabet River, Great Meadows and Oxbow National Wildlife Refuges (NWR), part of the Eastern Massachusetts National Wildlife Refuge Complex (Complex). This Draft CCP is prepared pursuant to the National Wildlife Refuge System Administration Act of 1966, as amended by the National Wildlife Refuge System Improvement Act of 1997 (16 U.S.C. 668dd et. seq.), and the National Environmental Policy Act of 1969, and describes how the Service intends to manage this refuge over the next 15 years.

DATES: You must submit comments on the Draft CCP and EA by August 22, 2003.

Please contact Great Meadows NWR, at 978-443-4661, for information about dates, times and locations of public meetings.

Send Comments to: Lindsay Krey, Team Leader, U.S. Fish and Wildlife Service, 300 Westgate Center Drive, Hadley, Massachusetts 01035, or e-mail comments to northeastplanning@fws.gov with a subject line stating “Eastern Massachusetts NWR Complex.”

ADDRESSES: Copies of the Draft CCP/EA are available on compact diskette or a hard copy may be obtained by writing: Lindsay Krey, U.S. Fish and Wildlife Service, 300 Westgate Center Dr., Hadley, Massachusetts 01035. Copies of the Draft CCP/EA may also be accessed and downloaded at the following Web site address: www.northeast.fws.gov/planning/.

FOR FURTHER INFORMATION CONTACT: Lindsay Krey, Planning Team Leader, at 413-253-8556, e-mail Lindsay_Krey@fws.gov.

SUPPLEMENTARY INFORMATION: This Draft CCP/EA evaluates three alternatives for addressing key management issues at the refuges. Alternative A is the current management, or what is currently offered at the refuge. Alternative B is the Proposed Action and Alternative C is another alternative considered. Public comment is being solicited on all alternatives. Based on the analysis documented in this Draft CCP/EA, the Region 5 Regional Director of the Service will select a preferred alternative to be fully developed into a CCP for the refuges. A CCP is required by the National Wildlife Refuge System Administration Act of 1966, as amended by the National Wildlife Refuge System Improvement Act of 1997 (16 U.S.C. 668dd et. seq.). The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. This CCP will be reviewed and updated at least every 15 years in accordance with the National Wildlife Refuge System Administration Act of 1966, as amended by the National Wildlife Refuge System Improvement Act of 1997 (16 U.S.C. 668dd et. seq.), and the National Environmental Policy Act of 1969.

The Complex is a group of eight coastal and inland refuges. This Draft CCP/EA addresses the three northern-most refuges in the Complex. Both Oxbow and Assabet River NWR were established for their “particular value in carrying out the national migratory bird management program” under the Transfer of Certain Real Property for Wildlife Conservation Purposes Act of May 1948. Oxbow NWR was established in 1973 and consists of 1,667 acres of upland and wetland habitats along the Nashua River in Middlesex County. Assabet River NWR was established in 2000 and consists of 2,230 acres in Middlesex and Worcester Counties. Great Meadows NWR was established under the Migratory Bird Conservation Act in 1944 “for use as an inviolate sanctuary, or for any other management purpose, for migratory birds.” It protects 3,629 acres of wetland and upland habitats along the Concord and Sudbury Rivers in Middlesex County. Key issues for each refuge are described below.

Hunting: Under Alternative A, small game, upland and woodcock hunting would remain open on portions of Oxbow NWR. Under Alternative B, the Service would open additional areas to small game, upland and woodcock hunting and open big game and migratory bird hunting on the refuge. Alternative C also offers these hunting opportunities, but limits areas where hunting would be allowed.

Under Alternative A, Assabet River NWR would remain closed to public access. Under Alternative B, the refuge would be open for big game and upland hunting. Migratory bird hunting would be considered after further data is collected. Alternative C is similar to B, except big game hunting is limited to archery and black powder deer hunting only.

Great Meadows NWR, which is currently closed to all hunting (Alternative A), would be open to archery deer hunting and migratory bird hunting in limited areas under Alternative B. Alternative C proposes that additional areas be open for hunting than identified in Alternative B. Hunting would not be allowed at the Concord impoundments under any alternative.

Fishing: Fishing opportunities would continue under Alternative A at both Great Meadows and Oxbow NWRs. Under Alternative B, fishing opportunities would continue unchanged at Great Meadows. Alternative B proposes that Oxbow NWR provide additional bank fishing areas and that Assabet River NWR be open for fishing on Puffer Pond. Alternative C is similar to Alternative B for all refuges.

Non-wildlife dependent recreation: Dog walking, currently (Alternative A) occurring on Great Meadows and Oxbow NWRs, would be prohibited under Alternatives B and C. Jogging at Great Meadows and Oxbow NWRs will continue to be allowed. The Service plans to analyze the potential impacts of jogging on Service trust resources and priority public uses and will consider modifying or eliminating the use in the future, based on this additional analysis. Other non-wildlife dependent uses requested during the scoping process, including snowmobiling, dog sledding, horseback riding, dirt biking and model airplane flying, are alternatives addressed but not considered in further detail.

These uses, including dog walking and jogging, are not considered for Assabet River NWR.

User Fees: The refuges currently do not charge fees for access or use. Under Alternative B and C, user fees will be collected to help the Service recover costs, improve visitor facilities, promote activities for visitors and address the maintenance backlog of visitor service projects.

Dated: June 19, 2003.
James G. Geiger,
Acting Regional Director, U.S. Fish and Wildlife Service, Hadley, Massachusetts.

[FR Doc. 03-17163 Filed 7-7-03; 8:45 am]

BILLING CODE 4310-55-P